DEPARTMENT OF COMMERCE

National Oceanic and Atmospheric Administration

RIN 0648-XE123

Notice of Availability of a Draft Programmatic Environmental Assessment for Fisheries Research Conducted and Funded by the National Marine Fisheries Service, Northwest Fisheries Science Center

AGENCY: National Marine Fisheries Service (NMFS), National Oceanic and Atmospheric Administration (NOAA), Commerce.

ACTION: Notice of availability of a Draft Programmatic Environmental Assessment; request for comments.

SUMMARY: NMFS announces the availability of the “Draft Programmatic Environmental Assessment (DPEA) for Fisheries Research Conducted and Funded by the Northwest Fisheries Science Center (NWFSC).” Publication of this notice begins the official public comment period for this DPEA. The purpose of the DPEA is to evaluate, in compliance with the National Environmental Policy Act (NEPA), the potential direct, indirect, and cumulative impacts of conducting and funding fisheries and ecosystem research along the U.S. West Coast, including the Northern California Large Marine Ecosystem (NCLME), Puget Sound, and the Lower Columbia River Research Area (LCRRA).

DATES: Comments and information must be received no later than September 28, 2015.

ADDRESSES: Comments on the DPEA should be addressed to Kurt Fresh, Manager, Estuarine and Ocean Ecology Program, NMFS, Northwest Fisheries Science Center. The mailbox address for providing physical comments is 2725 Montlake Boulevard, East Seattle, WA 98112. The email address is Kurt.Fresh@noaa.gov. NMFS is not responsible for email comments sent to addresses other than the one provided here.

Instructions: NMFS is not responsible for comments sent by any other method, to any other address or individual, or received after the end of the comment period. Comments received electronically, including all attachments, must not exceed a 25-megabyte file size. Attachments to electronic comments will be accepted in Microsoft Word or Excel or Adobe PDF file formats only. All personal identifying information (e.g., name, address) voluntarily submitted by the commenter may be publicly accessible. Do not submit confidential business information or otherwise sensitive or protected information.

FOR FURTHER INFORMATION CONTACT: Kurt Fresh, Northwest Fisheries Science Center, NMFS, (206) 860-3200.

SUPPLEMENTARY INFORMATION:

Availability

An electronic copy of the DPEA may be obtained by writing to the address specified above (see FOR FURTHER INFORMATION CONTACT) or by visiting the internet at: http://www.nwfsc.noaa.gov/news/features/incidental_take_NOA. Documents cited in this notice may also be viewed, by appointment, during regular business hours, at the aforementioned address.

Background

The NWFSC is the research arm of NMFS in the Northwest Region of the Continental United States. The NWFSC conducts research and provides scientific advice to manage fisheries and conserve protected species in the Pacific Ocean (primarily the Continental Shelf Region of the Pacific Coast), Puget Sound, and Lower Columbia River Estuary (below Bonneville Dam). Research is aimed at monitoring fish stock recruitment, survival and biological rates, abundance and geographic distribution of species and stocks, and providing other scientific information needed to improve our understanding of complex marine ecological processes. Primary research activities include: Studies of early marine life and mortality processes of juvenile Pacific salmonids, bottom trawl surveys to support assessments of multiple groundfish species, stock assessments of Pacific hake, studies to support salmon recovery efforts in Puget Sound and the Columbia River Estuary, telemetry studies of numerous species, and extensive cooperative research projects designed to address current or emerging information needs of the commercial fishing industry such as bycatch reduction efforts. Many research activities also include active acoustic systems, plankton nets, and other oceanographic equipment that provide important data on the status and trends of marine ecosystems important for various fisheries and natural resource management processes.

NMFS has prepared the DPEA under NEPA to evaluate several alternatives for conducting and funding fisheries and ecosystem research activities as the primary Federal action. Additionally in the DPEA, NMFS evaluates a secondary Federal action—also called a “connected action” under 40 CFR 1508.25 of the Council on Environmental Quality's regulations for implementing the procedural provisions of NEPA (42 U.S.C. 4321 et seq.)—which is the proposed promulgation of regulations and authorization of the take of marine mammals incidental to the fisheries research under the Marine Mammal Protection Act (MMPA). Additionally, because the proposed research activities occur in areas inhabited by species of marine mammals, birds, sea turtles, and fish listed under the Endangered Species Act (ESA) as threatened or endangered, this DPEA evaluates activities that could result in unintentional takes of ESA-listed marine species.

The following four alternatives are evaluated in the DPEA:

1. No-Action/Status Quo Alternative—Conduct Federal Fisheries and Ecosystem Research with Scope and Protocols Similar to Past Effort;

2. Preferred Alternative—Conduct Federal Fisheries and Ecosystem Research (New Suite of Research) with Mitigation for MMPA and ESA Compliance;

3. Modified Research Alternative—Conduct Federal Fisheries and Ecosystem Research (New Suite of Research) with Additional Mitigation; and

4. No Research Alternative—No Fieldwork for Federal Fisheries and Ecosystem Research Conducted or Funded by NWFSC.

The first three alternatives include a program of fisheries and ecosystem research projects conducted or funded by the NWFSC as the primary Federal action. Because this primary action is connected to a secondary Federal action to consider authorizing incidental take of marine mammals under the MMPA, NMFS must identify as part of this evaluation “(t)he means of effecting the least practicable adverse impact on the species or stock and its habitat.” (Section 101(a)(5)(A) of the MMPA [16 U.S.C. 1361 et seq.]). NMFS must therefore identify and evaluate a reasonable range of mitigation measures to minimize impacts to marine mammals that occur in NWFSC research areas. These mitigation measures are considered as part of the identified alternatives in order to evaluate their effectiveness to minimize potential adverse environmental impacts. The three action alternatives also include mitigation measures intended to minimize potentially adverse interactions with other protected species that occur within the action area. Protected species include all marine mammals, which are covered under the MMPA, all species listed under the ESA, and bird species protected under the Migratory Bird Treaty Act.

NMFS is also evaluating a second type of no-action alternative that considers no federal funding for fieldwork on fisheries and ecosystem research activities. This is called the No Research Alternative to distinguish it from the No-Action/Status Quo Alternative. The No-Action/Status Quo Alternative will be used as the baseline to compare all of the other alternatives.

Potential direct and indirect effects on the environment are evaluated under each alternative in the DPEA. The environmental effects on the following resources are considered: physical environment, special resource areas, fish, marine mammals, birds, sea turtles, invertebrates, and the social and economic environment. Cumulative effects of external actions and the contribution of fisheries research activities to the overall cumulative impact on the aforementioned resources is also evaluated in the DPEA for the geographic regions in which NWFSC surveys are conducted.

Information Solicited

NMFS requests comments on the DPEA for Fisheries Research Conducted and Funded by the National Marine Fisheries Service, Northwest Fisheries Science Center. Please include, with your comments, any supporting data or literature citations that may be informative in substantiating your comment.

Dated: August 19, 2015.
Mark Strom,
Deputy Director, Northwest Fisheries Science Center, National Marine Fisheries Service.

[FR Doc. 2015-21356 Filed 8-27-15; 8:45 am]

BILLING CODE 3510-22-P